DEPARTMENT OF HOUSING AND URBAN DEVELOPMENT

[Docket No. FR-4734-N-29]

Notice of Submission of Proposed Information Collection to OMB; Emergency Comment Request Applying to HUD for Designation of State or Locally Developed Housing in the State of New York as “Covered Units” Eligible for Inclusion in the Federal Public Housing Program; Notice of Proposed Information Collection for Public Comment

AGENCY: Office of The Assistant Secretary for Public and Indian Housing.

ACTION: Notice of proposed information collection.

SUMMARY: The proposed information collection requirement described below has been submitted to the Office of Management and Budget (OMB) for emergency review and approval, as required by the Paperwork Reduction Act of 1995 (44 U.S.C. Chapter 3507(j)). The Department is soliciting public comments on the subject proposal.

DATES: Comments Due Date: August 2, 2002.

ADDRESSES: Interested persons are invited to submit comments regarding this proposal. Comments must be received within fourteen (14) days from the date of this Notice. Comments should refer to the proposal by name and should be sent to: Lauren Wittenberg, HUD Desk Officer, Office of Management and Budget, 725 17th Street, NW., Room 10235, New Executive Office Building, Washington, DC 20503; e-mail: Lauren Wittenberg@omb.eop.gov; fax: 202-395-6974.

FOR FURTHER INFORMATION CONTACT: Wayne Eddins, Reports Management Officer, QDAM, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This Notice informs the public that the U.S. Department of Housing and Urban Development (HUD) has submitted to OMB, for emergency processing, an information collection package for Public Housing Agencies (PHAs) eligible under court orders regarding federalization language contained within section 519(n) of the Quality Housing and Work Responsibility Act (QHWRA) of 1998 to request that State and Locally Developed public housing units in the State of New York be included in the Federal public housing program and receive Federal operating and capital funds.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Applying to HUD for Designation of State or Locally Developed Housing in the State of New York as “Covered Units” Eligible for Inclusion in the Federal Public Housing Program.

Description of Proposed Information Collection: Notice to Public Housing Agencies (PHAs) in the State of New York they may apply for designation of public housing units developed and funded in accordance with New York law as “covered units,” up to 7,000 of which will be eligible to receive Federal public housing operating and capital funds allocated according to statutory and regulatory formulas; provide information about all developments and units that could be “covered units”; and communicate PHAs' preferences as to which of their developments and units they would want included in the Federal housing program. Specifically, PHAs will be asked to submit information on: (1) Name of developments; (2) Number of units; (3) Location (census tract); (4) Age and general condition; (5) Composition of units by bedroom size, and family, elderly, or disabled designation; (6) Current vacancy rate and vacancy rate for past two years; (7) If readily available, actual operating expenses for the last two fiscal years; if not readily available, any unusually large recent, current or projected operating costs (e.g. extraordinarily high utilities costs); (8) Summary of large capital improvements made over preceding five-year period; (9) Projected capital need for next five years; (10) Debt service amounts (if any); (11) Extraordinary liabilities the Federal government may need to assume (e.g. litigation); (12) Most recent Public Housing Assessment System (PHAS) rating and designation for the PHA from HUD, or copy of any recent performance assessment from applicable State or local government or other independent entity; and (13) Other information requested by HUD as necessary to complete its review. This information will be used to aid HUD in determining which units shall receive the “covered” designation.

OMB Control Number: Pending OMB approval.

Agency Form Numbers: None.

Members of Affected Public: State, Local or Tribal Government.

Estimation of the total numbers of hours needed to prepare the information collection including number of respondents, frequency of responses, and hours of responses: Of the 24 PHAs with State or Locally developed public housing units, 22 PHAs have total unit counts ranging from 50 to 300 units. The remaining 2 PHAs each have over 1,000 such units. It is anticipated the information requested shall be readily available from existing planning and reporting documents, with the possible exception of on-site capital assessments as mentioned above. The overall estimate of average hours per response includes the time to research available data sources, extract relevant data, conduct on-site property inspections, complete five-year capital improvement assessments, and compile and assemble information in the required format. An estimation of the total number of hours needed to prepare the information collection is 960, number of respondents is 24, frequency response is annually, and the hours of response is 40.

Authority: The Paperwork Reduction Act of 1995, 44 U.S.C. Chapters 35, as amended.

Dated: July 18, 2002.
Wayne Eddins,
Departmental Reports Management Officer, Office of the Chief Information Officer.

[FR Doc. 02-18898 Filed 7-25-02; 8:45 am]

BILLING CODE 4210-72-M